ENVIRONMENTAL PROTECTION AGENCY

[EPA-HQ-OPP-2011-0902; FRL-9520-8]

Agency Information Collection Activities; Submission to OMB for Review and Approval; Comment Request; Consumer Research through Focus Groups to Develop Improved Labeling for Pesticide Products

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 20, 2012.

ADDRESSES: Submit your comments, referencing Docket ID No. EPA-HQ-OPP-2011-0902, to (1) EPA online using www.regulations.gov (our preferred method), or by mail to: EPA Docket Center, Environmental Protection Agency, Office of Pesticide Programs Regulatory Public Docket (28221T), 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Ryne Yarger, Field and External Affairs Division (7506P), Office of Pesticide Programs, Environmental Protection Agency, 1200 Pennsylvania Ave. NW., Washington, DC 20460-0001; telephone number: (703) 605-1193; fax number: (703) 305-5884; email address: yarger.ryne@epa.gov.

SUPPLEMENTARY INFORMATION: EPA has submitted the following ICR to OMB for review and approval according to the procedures prescribed in 5 CFR 1320.12. On December 7, 2011 (76 FR 76399), EPA sought comments on this ICR pursuant to 5 CFR 1320.8(d). EPA received no comments. Any additional comments on this ICR should be submitted to EPA and OMB within 30 days of this notice.

EPA has established a public docket for this ICR under Docket ID No. EPA-HQ-OPP-2011-0902, which is available for online viewing at http://www.regulations.gov, or in person viewing at the OPP Regulatory Public Docket in the EPA Docket Center (EPA/DC), EPA West, Room 3334, 1301 Constitution Ave. NW., Washington, DC. The EPA/DC Public Reading Room is open from 8 a.m. to 4:30 p.m., Monday through Friday, excluding legal holidays. The telephone number for the Reading Room is 202-566-1744, and the telephone number for the OPP Regulatory Public Docket is 703-305-5805.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Consumer Research through Focus Groups to Develop Improved Labeling for Pesticide Products.

ICR numbers: EPA ICR No. 2367.02, OMB Control No. 2070-0175.

ICR Status: This ICR is scheduled to expire on August 31, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA intends to renew a voluntary information collection for consumer research involving the use of focus groups to test various versions of pesticide product labels and other informational materials intended for the general public. Every pesticide product must bear a label containing the information specified by the Federal Insecticide, Fungicide, and Rodenticide Act as established in EPA's labeling regulations at 40 CFR 156.10. Pesticide product labels provide critical safety information and directions for use to avoid harm to human health and the environment. The purpose of this research is to identify the consumer's understanding of the information on a pesticide product label to assure that the consumer can effectively use this information to select the pesticide product most likely to meet their needs, and to assure that the consumer can readily understand label instructions regarding the safe use, handling, storage, and disposal of a pesticide product.

Without knowledge concerning the consumer's perspective and interpretation of the information on the label, EPA cannot judge if the proposed content and design of the label is effectively conveying useful safety and performance information to the consumer. Testing of existing and/or proposed label statements in realistic situations with typical consumers via focus groups can provide valuable qualitative information about the clarity and understandability of a pesticide product label, what these label statements are likely to communicate to consumers, and how consumers use the information to make purchasing decisions. The collected information will be used to inform the Agency on the need for and nature of potential revisions to EPA's policy, guidance, and regulations related to pesticide label language and design label metrics, and to aid in the creation of other user-friendly consumer information materials.

Burden Statement: The annual public reporting and recordkeeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this ICR are members of the general public who volunteer to participate in a focus group.

Estimated Number of Annual Respondents: 100.

Frequency of Response: On occasion.

Estimated Total Annual Burden Hours: 200.

Estimated Total Annual Cost: $6,014. There are no operational or maintenance costs associated with the collection of this activity.

Changes in the Estimates: There is an increase of 120 hours in the total estimated burden currently identified in the OMB Inventory of Approved ICR Burdens. This increase reflects EPA's actual costs of conducting a series of 10 focus groups in 2010. This change is an adjustment.

John Moses,
Director, Collection Strategies Division.

[FR Doc. 2012-17748 Filed 7-19-12; 8:45 am]

BILLING CODE 6560-50-P